DEPARTMENT OF COMMERCE

National Oceanic and Atmospheric Administration

50 CFR Part 648

[Docket No. 040112010-4114-02; I.D. 032805B]

Magnuson-Stevens Fishery Conservation and Management Act Provisions; Fisheries of the Northeastern United States; Northeast (NE) Multispecies Fishery; Closure of the Eastern U.S./Canada Area and Prohibition of Harvesting, Possessing, or Landing of Yellowtail Flounder from the Entire U.S./Canada Management Area

AGENCY: National Marine Fisheries Service (NMFS), National Oceanic and Atmospheric Administration (NOAA), Commerce.

ACTION: Closure.

SUMMARY: NMFS announces that the Administrator, Northeast Region, NMFS (Regional Administrator), has projected that 100 percent of the total allowable catch (TAC) of Georges Bank (GB) yellowtail flounder allocated to be harvested from the Western and Eastern U.S./Canada Areas has been harvested. The National Marine Fisheries Service, therefore, is closing the Eastern U.S./Canada Area to limited access NE multispecies days-at-sea (DAS) vessels and prohibiting all vessels from harvesting, possessing, or landing GB yellowtail flounder from within the entire U.S./Canada Management Area.

DATES: Effective 0001 hrs local time, April 1, 2005 through 2400 hrs local time, April 30, 2005.

FOR FURTHER INFORMATION CONTACT: Douglas W. Christel, Fishery Policy Analyst, (978) 281-9141, fax (978) 281-9135.

SUPPLEMENTARY INFORMATION: Regulations governing the yellowtail flounder landings limit within the Western and Eastern U.S./Canada Areas are found at 50 CFR 648.85(a)(3)(iv)(C). The regulations authorize vessels issued a valid limited access NE multispecies permit and fishing under a NE multispecies DAS to fish in the U.S./Canada Management Area, under specific conditions. The TAC allocation for GB yellowtail flounder for the 2004 fishing year was specified at 6,000 mt in the final rule implementing Amendment 13 to the NE Multispecies Fishery Management Plan (FMP) (April 27, 2004, 69 FR 22906). Section 648.85(a)(3)(iv)(C)(3) authorizes the Regional Administrator to close the Eastern U.S./Canada Area to all limited access NE multispecies DAS vessels and prohibit all vessels from harvesting, possessing, or landing GB yellowtail flounder from the entire U.S./Canada Management Area when 100 percent of the GB yellowtail flounder TAC is projected to be harvested.

Based upon Vessel Monitoring System reports and other available information, the Regional Administrator has determined that 100 percent of the GB yellowtail flounder TAC of 6,000 mt was harvested as of March 25, 2005. Based on this information, the Eastern U.S./Canada Area is closed to limited access NE multispecies DAS vessels and all vessels are prohibited from harvesting, possessing, or landing GB yellowtail flounder from the entire U.S./Canada Management Area for the remainder of the fishing year, effective April 1, 2005.

Classification

This action is required by 50 CFR part 648 and is exempt from review under Executive Order 12866.

Authority: 16 U.S.C. 1801 et seq.

Dated: March 28, 2005.
Alan D. Risenhoover,
Acting Director, Office of Sustainable Fisheries, National Marine Fisheries Service.

[FR Doc. 05-6501 Filed 3-29-05; 3:38 pm]

BILLING CODE 3510-22-S